DEPARTMENT OF THE TREASURY

Internal Revenue Service

Advisory Committee to the Internal Revenue Service; Meeting

AGENCY: Internal Revenue Service (IRS), Treasury.

ACTION: Notice of meeting.

SUMMARY: The Information Reporting Program Advisory Committee (IRPAC) will hold a public meeting on Wednesday, October 26, 2016.

FOR FURTHER INFORMATION CONTACT: Mr. Michael Deneroff, National Public Liaison, CL:NPL:SRM, Rm. 7559, 1111 Constitution Avenue NW., Washington, DC 20224. Phone: 202-317-6851 (not a toll-free number). Email address: PublicLiaison@irs.gov.

SUPPLEMENTARY INFORMATION: Notice is hereby given pursuant to section 10(a)(2) of the Federal Advisory Committee Act, 5 U.S.C. App. (1988), that a public meeting of the IRPAC will be held on Wednesday, October 26, 2016 from 9:00 a.m. to 12:00 p.m. at The Melrose Georgetown Hotel, 2430 Pennsylvania Ave NW., Washington, DC, 20037. Report recommendations on issues that may be discussed include: Foreign Account Tax Compliance Act; Complex Debt Reporting Requirements; IRC § 6050W and Form 1099-K Reporting; 2016 Form 8949 Instructions; IRS Publication 1179 Substitute 1099-B Specifications; Form 1098 Mortgage Interest Reporting; 529 Accounts; Hard to Value Assets; IRC § 6050S and Form 1098-T Reporting; Information Reporting for IRA Assets Escheated to State Governments and 60-Day Rollover Relief; Reporting by Insurance Companies and Applicable Large Employers under IRC § 6055 and § 6056; Theft of Business Taxpayer's Identity; Reactivation on the on-line Electronic Account Resolution Tool; Electronic Furnishing of Forms W-2 and 1095-C; Improving Frequently Asked Questions; Form W-9, 972CG Penalty Abatement Process. Last minute agenda changes may preclude advance notice. Due to limited seating and security requirements, please call or email Michael Deneroff to confirm your attendance. Mr. Deneroff can be reached at 202-317-6851 or PublicLiaison@irs.gov. Should you wish the IRPAC to consider a written statement, please call 202-317-6851, or write to: Internal Revenue Service, Office of National Public Liaison, CL:NPL:SRM, Room 7559, 1111 Constitution Avenue NW., Washington, DC 20224 or email: PublicLiaison@irs.gov.

Dated: September 6, 2016.
John Lipold,
Designated Federal Official Branch Chief, National Public Liaison.

[FR Doc. 2016-24673 Filed 10-12-16; 8:45 am]

BILLING CODE 4830-01-P